DEPARTMENT OF TRANSPORTATION

Federal Transit Administration

Environmental Impact Statement on the Capitol Expressway Light Rail Transit Project in San Jose, CA

AGENCY: Federal Transit Administration, DOT.

ACTION: Notice of intent to prepare an Environmental Impact Statement (EIS)

SUMMARY: The Federal Transit Administration (FTA) and the Santa Clara Valley Transportation Authority (VTA) intend to prepare an Environmental Impact Statement (EIS) in accordance with the National Environmental Policy Act (NEPA) and an Environmental Impact Report (EIR) in accordance with the California Environmental Quality Act (CEQA) for a proposed Light Rail Transit (LRT) line in the Capitol Expressway corridor. The proposed line and technology were selected following completion of the Downtown East Valley Major Investment Study (MIS) in August 2000. The MIS considered alternative modes of travel, alignment, and station locations in a 30-square mile study area. The MIS process resulted in a Preferred Investment Strategy that includes LRT improvements in the Capitol Expressway Corridor to improve direct transit service in an approximately 8-mile-long corridor in southeast San Jose, California. The Capitol Expressway Project will be further evaluated during the conceptual engineering phase of the project and carried forward in the EIS/EIR. The EIS/EIR will evaluate a No-Action alternative, LRT alignment and station options, and additional alternatives that emerge from the scoping process. Scoping will be accomplished through correspondence and discussions with interested persons; organizations; federal, state and local agencies; and through a public meeting.

DATES: Comment Due Date: Written comments on the scope of alternatives and impacts to be considered in the EIS/EIR must be received no later than November 2, 2001, and must be sent to VTA at the address indicated below. Scoping Meeting: A public scoping meeting will be held on September 26, 2001, from 6:00 p.m. to 8:00 p.m. at St. Francis of Assisi Catholic Church, 5111 San Felipe Road, San Jose, CA 95135. Phone: (408) 223-1562. The project purpose and alternatives will be presented at this meeting. The building used for the scoping meeting is accessible to persons with disabilities. Any individual who requires special assistance, such as a sign language interpreter, to participate in the scoping meeting should contact Jennifer Rielly, Public Communications Specialist, VTA Community Outreach, at (408) 321-7575 or TDD only at (408) 321-2330. Scoping material will be available at the meeting and may be obtained in advance of the meeting by contacting Mr. Fitzwater at the address or phone number given below.

ADDRESSES: Written comments should be sent to Mr. Thomas Fitzwater, Environmental Planning Manager, VTA, 3331 North First Street, San Jose, CA 95134-1906. Phone: (408) 321-5789. Fax: (408) 321-5787. E-mail: scoping.capitolexpressway@vta.org.

FOR FURTHER INFORMATION CONTACT: Mr. Thomas Fitzwater, Environmental Planning Manager, VTA, 3331 North First Street, San Jose, CA 95134-1906. Phone (408) 321-5789 or Mr. Jerome Wiggins, Office of Planning and Program Development, FTA, 201 Mission Street, Room 2210, San Francisco, CA 94105. Phone: (415) 744-3115. People with special needs should contact Jennifer Rielly, Public Communications Specialist, VTA Community Outreach, at (408) 321-7575 or TDD only at (408) 321-2330.

Supplementary information:

I. Scoping

The FTA and VTA invite all interested individuals and organizations, and federal, state, regional, and local agencies to provide comments on the scope of the project. A summary of the MIS, Downtown East Valley Major Investment Study—Project Summary Report (December 2000), is available for public review at the following public libraries: (1) Dr. Martin Luther King, Jr. Main Library, 180 West San Carlos Street, San Jose, CA 95113; (2) Hillview Branch Library, 2255 Ocala Avenue, San Jose, CA 95122; (3) Evergreen Branch Library, 2635 Aborn Road, San Jose, CA 95121; and (4) Seventrees Branch Library, 3597 Cas Drive, San Jose, CA 95111. The MIS summary is also available by contacting Mr. Fitzwater at the address and phone number given above. Mr. Fitzwater should also be contacted to be placed on the project mailing list and to receive additional information about the project. Written comments on the alternatives and potential impacts to be considered should be sent to Mr. Fitzwater.

II. Project Purpose and Need

The project purpose is to improve public transit service in the downtown and East Valley areas of the City of San Jose by addressing the following specific goals established in the MIS: improve mobility; increase transit ridership; target the highest commute corridors with emphasis on work and school trips; promote livable neighborhoods and community support.

In general, the project would provide residents of southeast San Jose more efficient access to the light rail system and improved connections and greater mobility options throughout the Silicon Valley. For example, residents could travel to south San Jose, downtown San Jose, and to the cities of Santa Clara, Sunnyvale, and Mountain View via the Guadalupe, Tasman, and Capitol LRT lines. Linkages to the Caltrain commuter rail line, which provides service to San Francisco and to communities along the Peninsula, may also be accessed at intermodal connections throughout the system.

The project would also alleviate heavy traffic congestion in the Interstate 680 and U.S. 101 corridors and on major arterials; reduce the circulation impacts of increased peak-hour traffic; improve regional air quality by reducing automobile emissions; improve mobility options to employment, education, medical, and retail centers for corridor residents, in particular low-income, youth, elderly, disabled, and ethnic minority populations; and support local economic and land development goals.

III. Alternatives

The Capitol Expressway Light Rail Project is examining alternatives to be carried forward into the environmental analysis process. The No-Action Alternative will consist of the existing conditions, in accordance with both NEPA and CEQA requirements. The Build or LRT Alternative is the Capitol Expressway LRT Project.

The proposed alignment of the LRT project begins at the end of the Capitol [Avenue] LRT line, currently under construction. Starting on Capitol Avenue, at the intersection of Capitol and Wilbur Avenues in east San Jose, the LRT would transition to operate in the median of Capitol Expressway, at grade in an exclusive right-of-way with some potential for grade separation at locations to be determined during conceptual engineering. The line would extend to the Eastridge Mall area as the terminus of the first phase. The next phase(s) would continue along Capitol Expressway to the Capitol Station on the Guadalupe LRT line. In this portion of the alignment, the roadway would need to be widened to accommodate the LRT median. Along the alignment, nine conceptual station locations have been identified. More precise station locations and alignment options will be developed during preparation of the Draft EIS/EIR.

The EIS/EIR will also address any additional alternatives identified in the scoping process.

IV. Probable Effects

The purpose of the EIS/EIR is to fully disclose the environmental consequences of building and operating the Capitol Expressway LRT Project in advance of any decisions to commit substantial financial or other resources towards its implementation. The EIS/EIR will explore the extent to which project alternatives and design options result in environmental impacts and will discuss actions to reduce or eliminate such impacts.

Environmental issues to be examined in the EIS/EIR include: changes in the physical environment (natural resources, air quality, noise, water quality, geology, visual); changes in the social environment (land use, business and neighborhood disruptions); changes in traffic and pedestrian circulation; changes in transit service and patronage; associated changes in traffic congestion; and impacts on parklands and historic resources. Impacts will be identified both for the construction period and for the long-term operation of the alternatives. The proposed evaluation criteria include transportation, environmental, social, economic, and financial measures, as required by current federal (NEPA) and state (CEQA) environmental laws and current Council on Environmental Quality and FTA guidelines.

To ensure that the full range of issues related to this proposed action are addressed and all significant issues identified, comments and suggestions are invited from all interested parties. Comments or questions concerning this proposed action and the EIS/EIR should be directed to VTA as noted above.

V. FTA Procedures

The EIS/EIR for the Capitol Expressway LRT Project will be prepared simultaneously with conceptual engineering for station and alignment options. The EIS/EIR/conceptual engineering process will address the potential use of federal funds for the proposed project, as well as assess the social, economic, and environmental impacts of station and alignment alternatives. Station designs and alignment alternatives will be refined to minimize and mitigate any adverse impacts identified.

After publication, the Draft EIS/EIR will be available for public and agency review and comment, and a public hearing will be held. Based on the Draft EIS/EIR and comments received, VTA will select a preferred alternative, which will be described in full detail in the Final EIS/EIR.

Issued on: September 14, 2001.
F. James Kenna,
Deputy Regional Administrator.

[FR Doc. 01-23318 Filed 9-17-01; 8:45 am]

BILLING CODE 4910-57-M